DEPARTMENT OF DEFENSE

Office of the Secretary

[Transmittal No. 20-69]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-69 with attached Policy Justification and Sensitivity of Technology.

Dated: December 8, 2020.
Kayyonne T. Marston,
Alternate OSD Federal Register Liaison Officer, Department of Defense.

BILLING CODE 5001-06-P

BILLING CODE 5001-06-C

Transmittal No. 20-69

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ .608 billion
Other | $ .400 billion
Total | $1.008 billion

(iii) Description and Quantity or Quantities of Articles or Services under Consideration for Purchase:

Major Defense Equipment (MDE):

One hundred thirty-five (135) AGM-84H Standoff Land Attack Missile Expanded Response (SLAM-ER) Missiles

Four (4) ATM-84H SLAM-ER Telemetry Missiles

Twelve (12) CATM-84H Captive Air Training Missiles (CATM)

Non-MDE:

Also included are one hundred fifty-one (151) containers, spare and repair parts, support and test equipment, publications and technical documentation, personnel training and training equipment, U.S. Government and contractor representatives' technical assistance, engineering and logistics support services, and other related elements of logistics support.

(vi) Military Department: Navy (TW-P-LIB)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: October 21, 2020

*As defined in Section 47(6) of the Arms Export Control Act.

POLICY JUSTIFICATION

Taipei Economic and Cultural Representative Office in the United States (TECRO)—AGM-84H Standoff Land Attack Missile-Expanded Response (SLAM-ER) Missiles

TECRO has requested to buy one hundred thirty-five (135) AGM-84H Standoff Land Attack Missile Expanded Response (SLAM-ER) Missiles; four (4) ATM-84H SLAM-ER Telemetry Missiles; and twelve (12) CATM-84H Captive Air Training Missiles (CATM). Also included are one hundred fifty-one (151) containers, spare and repair parts, support and test equipment, publications and technical documentation, personnel training and training equipment, U.S. Government and contractor representatives' technical assistance, engineering and logistics support services, and other related elements of logistics support. The total estimated program cost is $1.008 billion.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

This proposed sale will improve the recipient's capability to meet current and future threats as it provides all-weather, day and night, precision attack capabilities against both moving and stationary targets. The recipient will be able to employ a highly reliable and effective system to increase their warfighting effectiveness as needed, which can counter or deter aggressions by demonstrated precision against surface targets. This capability will easily integrate into existing force infrastructure as it will only improve defense against opposing threats. The recipient will have no difficulty absorbing these systems into its armed forces.

The proposed sale of this equipment and support will not alter the basic military balance in the region.

The principal contractor will be the Boeing Company, St. Louis, MO. There are no known offset agreements proposed in connection with this potential sale.

Implementation of this proposed sale will require the assignment of two (2) U.S. contractor representatives to the recipient for a duration of 8 years to support technical reviews, support, and oversight.

There will be no adverse impact on U.S. defense readiness as a result of this proposed sale.

Transmittal No. 20-69

Notice of Proposed Issuance of Letter of Offer Pursuant to Section 36(b)(1) of the Arms Export Control Act

Annex

Item No. vii

(vii) Sensitivity of Technology:

1. The AGM-84H Standoff Land Attack Missile-Expanded Response (SLAM-ER) is a non-nuclear tactical weapon system currently in service in the U.S. Navy and three other foreign nations. SLAM-ER is a follow on to the SLAM missile that is no longer in production. It is a variant of the Harpoon missile that uses an Imaging Infrared (IIR) seeker, planar wings, and a penetrating warhead. SLAM-ER is effective against a wide range of land-based targets and has a secondary anti-ship mission capability. The following components are being conveyed by the proposed sale and are essential to the ability of the SLAM-ER missile to selectively engage hostile targets under a wide range of operations, tactical and environmental conditions.

• The Imaging Infrared Seeker,

• The GPS/INS System,

• Operational Flight Program Software, and

• Missile operational characteristics and performance data.

2. The highest level of classification of defense articles, components, and services included in this potential sale is CONFIDENTIAL.

3. If a technologically advanced adversary were to obtain knowledge of the hardware and software elements, the information could be used to develop countermeasures or equivalent systems, which might reduce system effectiveness or be used in the development of a system with similar or advanced capabilities.

4. A determination has been made that the recipient can provide substantially the same degree of protection for the sensitive technology being released as the U.S. Government. This sale is necessary in furtherance of the U.S. foreign policy and national security objectives outlined in the Policy Justification.

5. All defense articles and services listed in this transmittal have been authorized for release and export to the recipient.

[FR Doc. 2020-27298 Filed 12-10-20; 8:45 am]

BILLING CODE 5001-06-P